ENVIRONMENTAL PROTECTION AGENCY

40 CFR Part 52

[CA 224-0213b; FRL-6549-8]

Approval and Promulgation of Implementation Plans; California State Implementation Plan Revision, Monterey Bay Unified Air Pollution Control District, San Joaquin Unified Air Pollution Control District, Santa Barbara County Air Pollution Control District, South Coast Air Quality Air Management District

AGENCY: Environmental Protection Agency (EPA).

ACTION: Proposed rule.

SUMMARY: EPA proposes to approve revisions to the California State Implementation Plan (SIP) which concern the control of volatile organic compound (VOC) emissions from wood product and wood panelling coating operations.

The intended effect of this action is to regulate emissions of VOCs according to the requirements of the Clean Air Act, as amended in 1990 (CAA or the Act). In the Final Rules Section of this Federal Register, the EPA is approving the state's SIP submittal as a direct final rule without prior proposal because the Agency views this as a noncontroversial revision and anticipates no adverse comments. A detailed rationale for this approval is set forth in the direct final rule. If no adverse comments are received, no further activity is contemplated. If EPA receives adverse comments, the direct final rule will be withdrawn and all public comments received will be addressed in a subsequent final rule based on this proposed rule. The EPA will not institute a second comment period. Any parties interested in commenting should do so at this time.

DATES: Written comments must be received by April 21, 2000.

ADDRESSES: Comments should be addressed to: Andrew Steckel, Rulemaking Office (AIR-4), Air Division, U.S. Environmental Protection Agency, Region IX, 75 Hawthorne Street, San Francisco, CA 94105-3901.

Copies of the rule revisions and EPA's evaluation report of each rule are available for public inspection at EPA's Region 9 office during normal business hours. Copies of the submitted rule revisions are also available for inspection at the following locations:

California Air Resources Board, Stationary Source Divison, Rule Evaluation Section, 2020 “L” Street, Sacramento, CA 95812;

Monterey Bay Unified Air Pollution Control District, 24580 Silver Cloud Court, Monterey, CA 93940;

San Joaquin Unified Air Pollution Control District, 1999 Tuolumne Street, Suite 200, Fresno, CA 93721;

Santa Barbara County Air Pollution Control District 26 Castilian Drive, Suite B-23, Goleta, CA 93117; and,

South Coast Air Quality Management District, 218 East Copley Drive, Diamond Bar, CA 91765.

FOR FURTHER INFORMATION CONTACT: Jerald S. Wamsley, Rulemaking Office, (AIR-4), Air Division, U.S. Environmental Protection Agency, Region 9, 75 Hawthorne Street, San Francisco, CA 94105-3901, Telephone: (415) 744-1226.

SUPPLEMENTARY INFORMATION: This document concerns the following local district rules: Monterey Bay Unified Air Pollution Control District (MBUAPCD) Rule 429—Applications of Nonarchitectural Coatings; San Joaquin Valley Unified Air Pollution Control District (SJVUAPCD) Rule 4606—Wood Products Coating Operations; Santa Barbara County Air Pollution Control District (SBCAPCD) Rule 351—Surface Coating of Wood Products; South Coast Air Quality Management District (SCAQMD) Rule 1104—Wood Flat Stock Coating Operations. These rules were submitted by the California Air Resources Board (CARB) to EPA on these respective dates: March 23, 1988; February 16, 1999; May 13, 1999; and, October 29, 1999.

For further information, please see the information provided in the direct final action that is located in the rules section of this Federal Register.

Dated: February 15, 2000.
Laura Yoshii,
Acting Regional Administrator, Region IX.

[FR Doc. 00-6973 Filed 3-21-00; 8:45 am]

BILLING CODE 6560-50-P